DEPARTMENT OF HOMELAND SECURITY

Coast Guard

33 CFR Part 165

[Docket No. USCG-2019-0339]

Safety Zone for Fireworks Display; Upper Potomac River, Washington Channel, DC

AGENCY: Coast Guard, DHS.

ACTION: Notice of enforcement of regulation.

SUMMARY: The Coast Guard will enforce a safety zone for a fireworks display taking place over the Washington Channel, adjacent to The Wharf DC, Washington, DC on June 8, 2019, (with an alternate date on October 18, 2019). This action is necessary to ensure the safety of life on navigable waterways during the fireworks display. Our regulation for recurring fireworks displays at this location from January 12, 2019, through December 31, 2019 identifies the safety zones for these fireworks display events. During the enforcement period, persons and vessels are prohibited from entering the safety zone unless authorized by the Captain of the Port Maryland-National Capital Region or a designated representative.

DATES: The regulations in 33 CFR 165.T05-1011 will be enforced for the location specified in paragraph (a) of that section from 8 p.m. through 10:30 p.m. on June 8, 2019, and if necessary due to inclement weather, from 8 p.m. through 9:30 p.m. on October 18, 2019.

FOR FURTHER INFORMATION CONTACT: If you have questions about this notice of enforcement, call or email Mr. Ron Houck, U.S. Coast Guard Sector Maryland-National Capital Region, Waterways Management Division; telephone 410-576-2674, email D05-DG-SectorMD-NCR-MarineEvents@uscg.mil.

SUPPLEMENTARY INFORMATION: The Coast Guard will enforce the safety zone in 33 CFR 165.T05-1011 (84 FR 4333, Feb. 15, 2019) for a fireworks display from 9 p.m. through 9:15 p.m. on June 8, 2019. If necessary due to inclement weather, the fireworks display event will be rescheduled and the safety zone will be enforced from 8 p.m. through 9:30 p.m. on October 18, 2019. This action is being taken to provide for the safety of life on navigable waterways during the fireworks display. Our regulation for this fireworks display, § 165.T05-1011, specifies the location of the regulated area for this temporary safety zone, which encompasses portions of the Washington Channel, adjacent to The Wharf DC, Washington, DC. During the enforcement period, as specified in § 165.T05-1011(c), persons and vessels may not enter the safety zones unless authorized by the Captain of the Port Sector Maryland-National Capital Region (COTP) or the COTP's designated representative. All vessels underway within the safety zone at the time it is activated are to depart the zone. The Coast Guard may be assisted by other federal, state, or local agencies in the enforcement of the safety zone.

This notice of enforcement is issued under authority of 33 CFR 165.T05-1011 and 5 U.S.C. 552(a). In addition to this notice of enforcement in the Federal Register, the Coast Guard will provide notification of the enforcement period via Broadcast Notice to Mariners and may provide notice via the Local Notice to Mariners.

Dated: May 15, 2019.
Joseph B. Loring,
Captain, U.S. Coast Guard, Captain of the Port Maryland-National Capital Region.

[FR Doc. 2019-10527 Filed 5-20-19; 8:45 am]

BILLING CODE 9110-04-P